DEPARTMENT OF THE INTERIOR

National Park Service

[NPS-BSD-FEES-14548; PX.XBSAD0096.00.1]

Information Collection Request Sent to the Office of Management and Budget (OMB) for Approval; The Interagency Access Pass and Senior Pass Application Processes

AGENCY: National Park Service, Interior.

ACTION: Notice; request for comments.

SUMMARY: We (National Park Service, NPS) have sent an Information Collection Request (ICR) to OMB for review and approval. We summarize the ICR below and describe the nature of the collection and the estimated burden and cost. This information collection is scheduled to expire on February 28, 2014. We may not conduct or sponsor and a person is not required to respond to a collection of information unless it displays a currently valid OMB Control Number. However, under OMB regulations, we may continue to conduct or sponsor this information collection while it is pending at OMB.

DATES: You must submit comments on or before March 28, 2014.

ADDRESSES: Send your comments and suggestions on this information collection to the Desk Officer for the Department of the Interior at OMB-OIRA at (202) 395-5806 (fax) or OIRA_Submission@omb.eop.gov (email). Please provide a copy of your comments to the Information Collection Clearance Officer, National Park Service, 1849 C Street NW. (2601), Washington, DC 20240 (mail); or madonna_baucum@nps.gov (email). Please reference OMB Control Number 1024-0252 in the subject line of your comments.

FOR FURTHER INFORMATION CONTACT: To request additional information about this IC, contact Brooke Linford by email at brooke_linford@nps.gov, or at 202-513-7139 (telephone). You may review the ICR online at http://www.reginfo.gov. Follow the instructions to review Department of the Interior collections under review by OMB.

SUPPLEMENTARY INFORMATION: I. Abstract. The America the Beautiful—National Parks and Federal Recreation Lands Pass Program covers recreation opportunities on public lands managed by four Department of the Interior agencies—the National Park Service, U.S. Fish and Wildlife Service, Bureau of Land Management, and the Bureau of Reclamation—and by the Department of Agriculture's U.S. Forest Service. The passes provide visitors an affordable and convenient way to access Federal recreation lands. The pass program's proceeds are used to improve and enhance visitor recreation services. Two of the available passes—Interagency Access Pass and Interagency Senior Pass—require documentation and are the bases for this information collection.

The Interagency Access Pass is a free, lifetime pass issued to citizens or residents who are domiciled in the United States, regardless of age, and who have a medical determination and documentation of permanent disability. You can obtain an Access Pass in person, with proper documentation, from a participating Federal recreation site or office. Access Passes may also be obtained via mail order. Mail-order applicants for the Access Pass must submit a completed application, proof of residency, and documentation of permanent disability, and pay the document processing fee of $10 to obtain a pass through the mail.

If a person arrives at a recreation site and claims eligibility for the Interagency Access Pass, but cannot produce any documentation, that person must read, sign, and date a Statement of Disability Form in the presence of the agency officer issuing the Interagency Access Pass. If the applicant cannot read and/or sign the form, someone else may read, date, and sign the statement on his/her behalf in the applicant's presence and in the presence of the agency officer issuing the Interagency Access Pass.

The Interagency Senior Pass is a lifetime pass issued to U.S. citizens or permanent residents who are 62 years or older. There is a $10 fee for the Senior Pass. You can buy a Senior Pass in person from a participating Federal recreation site or office or by mail order. There is an additional document processing fee of $10 to obtain a Senior Pass through the mail. Mail-order applicants must submit a completed application and proof of residency and age, and pay $20 for the pass fee and processing fee.

Agency Web sites provide information on the passes and acceptable documentation. All documentation submitted in person or through the mail is returned to the applicant or destroyed.

II. Data

OMB Control Number: 1024-0252.

Title: The Interagency Access Pass and Senior Pass Application Processes.

Service Form Number(s): None.

Type of Request: Revision of a currently approved collection.

Description of Respondents: Individuals.

Respondent's Obligation: Required to obtain or retain a benefit.

Frequency of Collection: On occasion.

Activity | Number of respondents | Number of annual responses | Completion time per response (minutes) | Total annual burden hours
Interagency Access Pass (in person) | 76,000 | 76,000 | 5 | 6,333
Interagency Access Pass (by mail) | 4,000 | 4,000 | 10 | 667
Interagency Senior Pass (by mail) | 29,750 | 29,750 | 10 | 4,958
Totals | 109,750 | 109,750 |  | 11,958

Estimated Annual Nonhour Burden Cost: $359,775 ($337,500 for processing fees and $22,275 for copying and postage costs).

III. Comments

On October 22, 2013, we published in the Federal Register (78 FR 62657) a notice of our intent to request that OMB renew approval for this information collection. In that notice, we solicited comments for 60 days, ending on December 23, 2013. We did not receive any comments.

We again invite comments concerning this information collection on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. Before including your address, phone number, email address, or other personal identifying information in your comment, you should be aware that your entire comment, including your personal identifying information, may be made publicly available at any time. While you can ask OMB in your comment to withhold your personal identifying information from public review, we cannot guarantee that it will be done.

Dated: February 20, 2014.
Doris Lowery,
Acting, Information Collection Clearance Officer, National Park Service.

[FR Doc. 2014-04058 Filed 2-25-14; 8:45 am]

BILLING CODE 4310-EH-P